ENVIRONMENTAL PROTECTION AGENCY

[FRL-8784-1]

Total Coliform Rule Revisions—Notice of Stakeholder Meeting

AGENCY: Environmental Protection Agency (EPA).

ACTION: Notice.

SUMMARY: The Environmental Protection Agency's Total Coliform Rule/Distribution System Advisory Committee established an Agreement in Principle (AIP), which provides the Agency with recommendations for revising the 1989 Total Coliform Rule (TCR). One of the recommendations of the Committee is that EPA conduct stakeholder outreach as the Agency develops the proposed revisions to the TCR. Today, EPA is giving notice of a public meeting to provide regulation development updates and opportunities for stakeholders to provide feedback on the development of the proposed revised Total Coliform Rule (RTCR).

Topics to be discussed in the meeting include a review of EPA's commitments to stakeholder outreach and involvement pertaining to the proposed RTCR and linkages to other rules; plan and schedule for guidance documents development; progress in converting the AIP recommendations to the rule language; discussion on proposed changes to the Public Notification and Consumer Confidence Report language; and discussion on AIP recommendations regarding review of the TCR analytical methods for Total Coliform/E. coli. EPA will also provide status on the Distribution System Research and Information Collection Partnership. Teleconferencing will be available for individuals unable to attend the meeting in person.

DATES: The public meeting will be held on Friday, April 3, 2009 (9 a.m. to 4 p.m., Eastern Time (ET)). Attendees and those planning to participate via teleconference should register for the meeting by calling Kate Zimmer of RESOLVE at (202) 965-6387 or by e-mail to kzimmer@resolv.org no later than March 31, 2009.

ADDRESSES: The meeting will be held at the EPA East Building, Room 1117-A, 1201 Constitution Avenue, NW., Washington, DC 20460.

FOR FURTHER INFORMATION CONTACT: For general inquiries about this meeting and teleconference information, contact Kate Zimmer of RESOLVE at (202) 965-6387 or by e-mail kzimmer@resolv.org. For technical information, contact Sean Conley: conley.sean@epa.gov, (202) 564-1781), Standards and Risk Management Division, Office of Ground Water and Drinking Water (MC 4607M), Environmental Protection Agency, 1200 Pennsylvania Avenue, NW., Washington, DC 20460; fax number: (202) 564-3767. For more information on the Committee's recommendations please visit, http://www.epa.gov/safewater/disinfection/tcr/regulation_revisions_tcrdsac.html.

SUPPLEMENTARY INFORMATION: Special Accommodations: For information on access or accommodations for individuals with disabilities, please contact Crystal Rodgers-Jenkins at (202) 564-5275 or by e-mail at rodgers-jenkins.crystal@epa.gov. Please allow at least 10 days prior to the meeting to give EPA time to process your request.

Dated: March 13, 2009.
Cynthia C. Dougherty,
Director, Office of Ground Water and Drinking Water.

[FR Doc. E9-6005 Filed 3-18-09; 8:45 am]

BILLING CODE 6560-50-P